DEPARTMENT OF HEALTH AND HUMAN SERVICES

Meeting of the National Vaccine Advisory Committee

AGENCY: Department of Health and Human Services, Office of the Secretary, Office of Public Health and Science.

ACTION: Notice.

SUMMARY: As stipulated by the Federal Advisory Committee Act, the Department of Health and Human Services (HHS) is hereby giving notice that the National Vaccine Advisory Committee (NVAC) will hold a meeting via teleconference. The meeting is open to the public. Pre-registration is not required, however, individuals who wish to participate in the public comment session should either e-mail nvpo@hhs.gov or call 202-690-5566 to register and RSVP.

DATES: The meeting will be held on Friday, November 6, 2009, from 3 p.m. to 5 p.m. EST.

ADDRESSES: The meetings will occur by teleconference. To attend, please call 1-888-677-1385, passcode ”NVAC”. Please call up to 15 minutes prior to the start of the conference call to facilitate attendance.

FOR FURTHER INFORMATION CONTACT: Ms. Andrea Krull, Public Health Advisor, National Vaccine Program Office, Department of Health and Human Services, Room 443-H, Hubert H. Humphrey Building, 200 Independence Avenue, SW., Washington, DC 20201. Phone: (202) 690-5566; Fax: (202) 260-1165; e-mail: nvpo@hhs.gov.

SUPPLEMENTARY INFORMATION: Pursuant to Section 2101 of the Public Health Service Act (42 U.S.C. Section 300aa-1), the Secretary of Health and Human Services was mandated to establish the National Vaccine Program to achieve optimal prevention of human infectious diseases through immunization and to achieve optimal prevention against adverse reactions to vaccines. The National Vaccine Advisory Committee (NVAC) was established to provide advice and make recommendations to the Director of the National Vaccine Program, on matters related to the Program's responsibilities. The Assistant Secretary for Health serves as Director of the National Vaccine Program.

This is a special meeting of the NVAC. Discussions will surround issues related to the current status of the 2009 H1N1 influenza outbreak and response with a focus on vaccine activities. The Committee will discuss the actions of the various HHS agencies working on H1N1 as it relates to the mission of NVAC. Representatives of state and local health associations will also provide their perspective.

For this special meeting, members of the public are invited to attend by teleconference via a toll-free call-in phone number. The call-in number will be operator assisted to provide members of the public the opportunity to provide comments to the Committee. Public comment will be limited to no more than three minutes per speaker. Pre-registration is required for public comment only. Individuals who plan to attend and need special assistance, such as accommodation for hearing impairment or other reasonable accommodations, should notify the designated contact person at least one week prior to the meeting.

Any members of the public who wish to have printed material distributed to NVAC should submit materials to the Executive Secretary, NVAC, through the contact person listed above prior to close of business one week before the meeting (conference call). A draft agenda and any additional materials will be posted on the NVAC Web site (http://www.hhs.gov/nvpo/nvac/) prior to the meeting.

Dated: October 15, 2009.
Bruce Gellin,
Deputy Assistant Secretary for Health, Director, National Vaccine Program Office, Executive Secretary, National Vaccine Advisory Committee.

[FR Doc. E9-25366 Filed 10-20-09; 8:45 am]

BILLING CODE 4150-44-P